DEPARTMENT OF TRANSPORTATION

Coast Guard

[USCG-2002-12897]

Commercial Fishing Industry Vessel Advisory Committee

AGENCY: Coast Guard, DOT.

ACTION: Notice of meeting.

SUMMARY: The Commercial Fishing Industry Vessel Advisory Committee (CFIVAC) will meet to discuss various issues relating to commercial vessel safety in the fishing industry. The meetings are open to the public.

DATES: CFIVAC will meet on Tuesday, August 21, 2002, from 9 a.m. to 5 p.m. and Wednesday, August 22, 2002, from 9 a.m. to 5 p.m. The meeting may close early if all business is finished. Requests to make oral presentations should reach the Coast Guard on or before August 2, 2002. Written material for distribution at the meeting should reach the Coast Guard on or before August 14, 2002. Requests to have a copy of your material distributed to each member of the committee should reach the Coast Guard on or before August 9, 2002.

ADDRESSES: CFIVAC will meet at the Radisson Hotel Hampton, 700 Settlers Landing Road, Hampton, Virginia 23699. The hotel's world wide Web site can be found at: www.radisson.com/hamptonva. Send written material and requests to make oral presentations to Mr. Kevin Frost, Commandant (G-MOC-3), U.S. Coast Guard Headquarters, 2100 Second Street SW., Washington, DC 20593-0001. This notice is available on the Internet at www.dms.dot.gov.

FOR FURTHER INFORMATION CONTACT: Mr. Kevin Frost, Assistant to the CFIVAC Executive Director, telephone (202) 267-0315, fax (202) 267-0506. You can also visit the CFIVAC world wide Web site at: http://www.uscg.mil/hq/g-m/cfvs/cfivac.htm for up to date meeting information and a listing of the past meeting minutes.

SUPPLEMENTARY INFORMATION: The Commercial Fishing Industry Vessel Advisory Committee (CFIVAC) will meet to discuss various issues relating to commercial vessel safety in the fishing industry. The meetings are open to the public. Notice of the meeting is given under the Federal Advisory Committee Act, 5 U.S.C. App. 2.

Agenda of Meeting

The agenda includes the following:

(1) Approval of last meeting's minutes.

(2) Report from the Coast Guard on the status of legislative change proposals and regulatory projects with respect to mandatory exams, training requirements, stability requirements, and immersion suit requirements.

(3) Updated status report from the Coast Guard on casualty data and statistics.

(4) Presentation and discussion on Mid-Atlantic fishery issues.

(5) Discussions of industry roles and concerns under the new national security posture.

(6) Discussions and working group sessions by the committee on mandatory exams, security requirements, stability requirements, and regionalization issues.

Procedural

The meeting is open to the public. Please note that the meeting may close early if all business is finished. At the Chair's discretion, members of the public may make presentations during the meeting. If you would like to make an oral presentation at the meeting, please notify the Executive Director no later than August 2, 2002. Written material for distribution at the meeting should reach the Coast Guard no later than August 14, 2002. If you would like a copy of your material distributed to each member of the committee in advance of the meeting, please submit 25 copies to the Executive Director no later than August 9, 2002.

Information on Services for Individuals With Disabilities

For information on facilities or services for individuals with disabilities or to request special assistance at the meeting, contact the Executive Director as soon as possible.

Dated: July 16, 2002.
Joseph J. Angelo,
Acting Assistant Commandant for Marine, Safety, Security & Environmental Protection.

[FR Doc. 02-18915 Filed 7-25-02; 8:45 am]

BILLING CODE 4910-15-P